NUCLEAR REGULATORY COMMISSION

10 CFR Part 72

[NRC-2016-0200]

RIN 3150-AJ86

List of Approved Spent Fuel Storage Casks: AREVA Inc., Standardized NUHOMS® Cask System, Certificate of Compliance No. 1004, Amendment No. 14, and Revision 1 of the Initial Certificate, Amendment Nos. 1 Through 11, and Amendment No. 13

AGENCY: Nuclear Regulatory Commission.

ACTION: Direct final rule; confirmation of effective date.

SUMMARY: The U.S. Nuclear Regulatory Commission (NRC) is confirming the effective date of April 25, 2017, for the direct final rule that was published in the Federal Register on January 25, 2017. The direct final rule amended the NRC's spent fuel storage regulations by revising the “List of approved spent fuel storage casks” to include Amendment No. 14 and Revision 1 to the Initial Certificate, Amendment Nos. 1 through 11, and Amendment No. 13 to Certificate of Compliance (CoC) No. 1004 for the AREVA Inc., Standardized NUHOMS® Cask System.

DATES: Effective Date: The effective date of April 25, 2017, for the direct final rule published January 25, 2017 (82 FR 8353), is confirmed.

ADDRESSES: Please refer to Docket ID NRC-2016-0200 when contacting the NRC about the availability of information for this action. You may obtain publicly-available information related to this action by any of the following methods:

• Federal Rulemaking Web site: Go to http://www.regulations.gov and search for Docket ID NRC-2016-0200. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Edward Lohr, Office of Nuclear Material Safety and Safeguards, U.S. Nuclear Regulatory Commission, Washington, DC 20555-0001; telephone: 301-415-0253; email: Edward.Lohr@nrc.gov.

SUPPLEMENTARY INFORMATION: On January 25, 2017 (82 FR 8353), the NRC published a direct final rule amending § 72.214 of title 10 of the Code of Federal Regulations by revising the “List of approved spent fuel storage casks” to include Amendment No. 14 and Revision 1 to the Initial Certificate, Amendment Nos. 1 through 11, and Amendment No. 13 to CoC No. 1004 for the AREVA Inc., Standardized NUHOMS® Cask System. Amendment No. 14 revises multiple items in the technical specifications (TSs) for dry shielded canister (DSC) models listed under CoC No. 1004; most of these revisions involve changes to the authorized contents. The revisions to the Initial Certificate, Amendment Nos. 1 through 11, and Amendment No. 13 remove language in the TSs that requires a transfer cask containing a DSC to be returned to the spent fuel pool following a drop of over 15 inches.

In the direct final rule, the NRC stated that if no significant adverse comments were received, the direct final rule would become effective on April 25, 2017. As described more fully in the direct final rule, a significant adverse comment is a comment where the commenter explains why the rule would be inappropriate, including challenges to the rule's underlying premise or approach, or would be ineffective or unacceptable without a change. Because no significant adverse comments were received, the direct final rule will become effective as scheduled.

During the comment period for the direct final rule, the NRC identified misspellings and page numbering errors in the draft CoCs and TSs associated with Revision 1 of the Initial Certificate, Amendment Nos. 1 through 11, and Amendment No. 13. The final CoCs and TSs have been corrected for these administrative errors. Also, the draft CoCs were changed to update the signature block for issuing authority. The final CoCs, TSs, and the final Safety Evaluation Report for Revision 1 of the Initial Certificate, Amendment Nos. 1 through 11, and Amendment No. 13 can be viewed in ADAMS under Accession No. ML17067A412.

The final CoC, TSs, and the final Safety Evaluation Report for Amendment No. 14 to CoC No. 1004 can be viewed in ADAMS under Accession No. ML17093A261.

Dated at Rockville, Maryland, this 7th day of April, 2017.
For the Nuclear Regulatory Commission.
Cindy Bladey,
Chief, Rules, Announcements, and Directives Branch, Division of Administrative Services, Office of Administration.

[FR Doc. 2017-07422 Filed 4-12-17; 8:45 am]

BILLING CODE 7590-01-P